DEPARTMENT OF THE INTERIOR

National Park Service

National Register of Historic Places; Notification of Pending Nominations

Nominations for the following properties being considered for listing in the National Register were received by the National Park Service before May 6, 2000. Pursuant to section 60.13 of 36 CFR part 60 written comments concerning the significance of these properties under the National Register criteria for evaluation may be forwarded to the National Register, National Park Service, 1849 C St. NW, NC400, Washington, DC 20240. Written comments should be submitted by June 1, 2000.

Carol D. Shull,
Keeper of the National Register.

Arkansas

Clay County

Esso Station, (Arkansas Highway History and Architecture MPS), 287 W. Main,

Piggott, 00000604.

Garland County

Humphreys—Ryan House, 137 Garland Ave.,

Hot Springs, 00000606

Jackson County

Phillips 66 Station, (Arkansas Highway History and Architecture MPS), N. corner of W. 1st and Main Sts., Swifton, 00000605.

Lincoln County

Parker House, HC 64 Box 5, Star City, 00000607.

Miller County

Clifton, John, House, 1803 Pecan St., Texarkana, 00000608.

Pike County

Jones General Store and Esso Station, (Arkansas Highway History and Architecture MPS), AR 84 W., Langley, 00000609.

Pope County

Threlkeld House, 1301 N. Boston Ave., Russellville, 00000610.

Pulaski County

Wassell, Corydon, House, 2005 S. Scott St., Little Rock, 00000611.

Sebastian County

Harper, Robert Atlas, House, 201 N. Main St., Greenwood, 00000612.

Connecticut

New Haven County

Prospect Green Historic District, 2, 8, 10, 12, 17, 19, 21, 23, 25, 27, & 30 Center St., Prospect, 00000560.

Florida

Putnam County

Interlachen Hall, 215 Atlantic Ave., Interlachen, 00000561.

Georgia

Coweta County

Henderson—Orr House, Jct. of Thomas Powers Rd. and GA 34, Stallings Crossing, 00000562.

Fulton County.

Adair Park Historic District, Bounded by Metropolitan Pkwy., Lexington Ave., Norfolk Southern RR and Shelton Ave., Atlanta, 00000563.

Illinois

Adams County

Quincy Northwest Historic District, Roughly bounded by Broadway, N. 2nd, Locust, and N. 12th Sts., Quincy, 00000564.

Iowa

Crawford County

Park Motel, 803 4th Ave. S., Denison, 00000565.

Louisiana

Rapides Parish

McGill, Dr. Robert E., 2704 Hill St., Alexandria, 00000566.

Tensas Parish

Bank of Newellton, 207 N. Main St., Newellton, 00000613.

Massachusetts

Berkshire County

East Main Street Cemetery, E. Main St., Dalton, 00000567

Middlesex County

Andover Street Historic District, 245—834 Andover St., 569, 579 E. Merrimack St., Lowell, 00000568

Norfolk County

Caryl, Benjamin, 107 Dedham St., Dover, 00000569

Michigan

Wayne County

Bartlett, Thomas and Maria Blackman, House, (Canton Township MPS) 500 N. Ridge Rd. (Canton Township), Cherry Hill, 00000614.

Boldman, David and Elizabeth Bell, House, (Canton Township MPS) 3339 S. Canton Center Rd. (Canton Township), Sheldon, 00000615.

Dingledey, Phillip and Maria Hasselbach, House, (Canton Township MPS) 1638 N. Haggerty Rd. (Canton Township), Westland, 00000616.

Fischer, John and Edna Trusdell, Farmstead, (Canton Township MPS) 4896—5228 S. Sheldon Rd. (Canton Township), Sheldon, 00000617.

Sheldon Inn, (Canton Township MPS), 44134 Michigan Ave. (Canton Township), Sheldon, 00000618.

Smith, George and Mary Pine, House, (Canton Township MPS), 3704 S. Sheldon Rd. (Canton Township), Sheldon, 00000619.

Minnesota

Koochiching County

Oberholtzer, Ernest C., Rainy Lake Islands Historic District, Mallard, Hawk and Crow Islands in Rainy Lake, Ranier, 00000570.

New York

Cattaraugus County

North Lyndon Schoolhouse, 7617 North Center Rd., Lyndon, 00000571.

Chautauqua County

Partridge—Sheldon House, 70 Prospect St., Jamestown, 00000572.

Cortland County

Randall Farm, (Cobblestone Architecture of New York State MPS), 3713 Page Green Rd., Cortland, 00000573.

Delaware County

Bovina Center Historic District, Roughly Co. Rt. 6, Creamery Rd., Maple and Pink Sts., Bovina Center, 00000574.

Kings County

Hubbard House, 2138 McDonald Ave., Brooklyn, 00000575.

New York County

JOHN J. HARVEY (fireboat), Pier 63, North R., New York, 00000576.

Manhattan Company Building, 40 Wall St., New York, 00000577.

Saratoga County

Batchellerville Presbyterian Church, Co. Rt. 7, Batchellerville, 00000578.

Saratoga Gas, Electric Light and Power Company Complex, Excelsior Ave., Saratoga Springs, 00000579.

Suffolk County

Bayles Shipyard, 101 E. Broadway, Port Jefferson, 00000580.

East Hampton Railroad Station, Railroad Ave., between Race and Newtown Lns., East Hampton, 00000581.

Sagaponack Historic District, Roughly along Main St., Southampton, 00000582.

St. James Chapel, E. side of Main St., 250 ft. N. of Stony Brook Ln., Brookhaven, 00000583.

Sullivan County

Hessinger Store, Main St. (Co. Rd. 122), Callicoon Center, 00000584.

Silver Lake Dam, Silver Lake Rd., Woodridge, 00000585.

Oklahoma

Carter County

Ardmore Carnegie Library, 511 Stanley SW., Ardmore, 00000620.

Kingfisher County

Burrus Mills Elevator C, (Grain Storage and Processing Facilities in Western Oklahoma MPS), NE corner, Jct. of Admire Ave. and 4th St., Kingfisher, 00000621.

Pontotoc County

Barnard Elementary School, 315 E. Locust St., Tecumseh, 00000624.

Wintersmith Park Historic District, E. 18th St. and Scenic Dr., Ada, 00000623.

Pottawatomie County

Aldridge Hotel, 20—24 E. 9th St., Shawnee, 00000622.

Tulsa County

Dressler, Carl K., House, 235 W. 18th St., Tulsa, 00000625.

South Carolina

Charleston County

King Cemetery, 1.1 mi. NE. of Jct. US 17 and S-19-38, Adams Run, 00000586.

Cherokee County

Carnegie Free Library, 210 N. Limestone St., Gaffney, 00000587.

Chester County

Great Falls Downtown Historic District, Dearborn St. between Church and Republic St., Great Falls, 00000588.

Florence County

Hopewell Presbyterian Church and Hopewell Cemetery, 5314 Old River Rd., Florence, 00000589.

Kershaw County

Seaboard Air Line Railway Depot, 1100 W. DeKalb St. (US 1), Camden, 00000590.

Williamsburg County

Salters Plantation House, Gapway Rd. (Co. Rd. 197), Salters, 00000591.

York County

Nation Ford, (Nation Ford Road Area MPS), In Catawba R., approx. 2 mi. downstream from US 21 bridge, Fort Mill, 00000592.

Nation Ford Battery, (Nation Ford Road Area MPS), Address Restricted, Rock Hill, 00000594.

Nation Ford Fish Weir, (Nation Ford Road Area MPS), In Catawba R. approx. 1200 ft. upstream from Nation Ford RR trestle, Rock Hill, 00000595.

Nation Ford Railroad Trestle, (Nation Ford Road Area MPS), Over the Catawba R. 100 ft. NE of SC 46-50, Rock Hill, 00000596.

Nation Ford Road, (Nation Ford Road Area MPS), 5 noncontiguous sections of roadbed in Fort Mill township, Fort Mill, 00000593.

Spratt Cemetery, (Nation Ford Road Area MPS), Brickyard Rd., Fort Mill, 00000597.

South Dakota

Charles Mix County

Lake Andes Carnegie Library, 500 Main St., Lake Andes, 00000598.

Hughes County

Oahe Addition Historic District, Roughly bounded by N. Poplar, LaBarge Ct., and 3rd and 4th Sts., Pierre, 00000599.

Jerauld County

Municipal Field House, (Federal Relief Construction in South Dakota MPS), 418 2nd St. SW., Wessington Springs, 00000600.

Wisconsin

Columbia County

Portage Street Historic District, Roughly along Portage St. from Spring to Parr Sts., Lodi, 00000626.

Green County

Hefty—Blum Farmstead, W6303 Hefty Rd., Washington, 00000601.

Menominee County

Saint Joseph of the Lake Church and Cemetery, Address Restricted, Menominee Reservation, 00000602.

Racine County

Burlington Downtown Historic District, Roughly bounded by E. Jefferson, N. Pine, E. Washington, E. Chestnut, N., Dodge, Commerce, Mill, and W. Chestnut Sts., Burlington, 00000603.

[FR Doc. 00-12377 Filed 5-16-00; 8:45 am]

BILLING CODE 4310-70-P